DEPARTMENT OF THE INTERIOR

Bureau of Land Management

[NV-050-5853-EU]

Notice of Availability of the Draft Environmental Impact Statement for the Las Vegas Valley Disposal Area as expanded by the Clark County Conservation of Public Land and Natural Resources Act of 2002, Public Law 107-282, November 6, 2002

AGENCY: Bureau of Land Management, Interior.

COOPERATING AGENCIES: U.S. Air Force, Nellis Air Force Base; U.S. Fish and Wildlife Service, Desert National Wildlife Refuge Complex; Clark County Regional Flood Control District; Clark County Comprehensive Planning; City of Henderson; City of Las Vegas; City of North Las Vegas.

ACTION: Notice of availability.

SUMMARY: Pursuant to the National Environmental Policy Act (NEPA) of 1969 and the Federal Land Policy and Management Act (FLPMA) of 1976, the Bureau of Land Management (BLM) has prepared a Draft EIS with the specific purpose to authorize transfer of title or uses of public land in the Las Vegas Valley. The project area consists of all remaining lands identified for disposal within the boundary established by the Southern Nevada Public Lands Management Act (SNPLMA) (Public Law 105-263), as amended by the Clark County Conservation of Public Land and Natural Resources Act of 2002 (Clark County Act) (Public Law 107-282). This EIS will ensure the intent of Congress, as portrayed in the SNPLMA and the Clark County Act, is met by providing land for organized local community development. This does not preclude other authorized uses of public lands such as applications for Rights-of-Way, Leases and Recreation and Public Purpose Leases located in Clark County, Nevada, Hydrographic Basin 212. The EIS fulfills the needs and obligations set forth by NEPA, FLPMA, and BLM management policies as defined in the Resource Management Plan (RMP) of 1998.

DATES: Written comments on the Draft EIS will be accepted for 60 days following the date of publication of the Notice of Availability by the Environmental Protection Agency in the Federal Register. Future meetings or hearings and any other public involvement activities will be announced at least 15 days in advance through public notices, media news releases, and/or mailings.

ADDRESSES: You may submit comments by any of the following methods:

• Web site: http://www.nv.blm.gov/lvdiseis.

• E-mail: jsteinme@nv.blm.gov.

• Fax: (702) 515-5155.

• Mail: Bureau of Land Management, Las Vegas Field Office, 4701 North Torrey Pines Drive, Las Vegas, NV 89130-2301.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Copies of the Draft EIS are available in the BLM Las Vegas Field Office at the above address.

FOR FURTHER INFORMATION CONTACT: For further information and/or to have your name added to our mailing list, contact Jeff Steinmetz, BLM Las Vegas Field Office, Telephone (702) 515-5097; e-mail jsteinme@nv.blm.gov.

SUPPLEMENTARY INFORMATION: Shortly after approval of SNPLMA, the BLM received an increase in requests for public land disposal. The Clark County Act significantly increased the amount of land available for disposal by adding approximately 22,000 acres to the Las Vegas Valley Disposal Area by amending the boundary defined and approved in SNPLMA. (The rapid disposal rate and additional lands created the need to augment the impact analysis conducted for the Las Vegas RMP, signed October 5, 1998). The current Draft EIS considers and analyzes three alternatives that meet the requirements of SNPLMA and the Clark County Act. The alternatives include complete disposal, a disposal implementation option (conservation transfer) that addresses sensitive environmental resources, and a no action alternative as required by NEPA. The no action alternative to land disposal is a continuation of realty management as specified in the RMP, including disposal of BLM-managed lands until the cumulative development (including private lands) throughout the Las Vegas Valley reaches the projected total of 80,000 acres. Land disposal authorized by SNPLMA and the Clark County Act that would result in subsequent development of more acreage than the amount evaluated in the RMP are not included in the no action alternative. Under the complete disposal alternative all BLM land within the disposal boundary would be available for disposal, unless the action would violate another law, such as the Endangered Species Act. Analysis of this alternative includes evaluation of indirect and cumulative impacts of post-disposal development. Under the disposal implementation option or conservation transfer alternative, the BLM would consider transfer options that restrict subsequent use of individual properties to protect sensitive environmental resources. These options could include mitigation and/or protection of the resource before or after the property is transferred. Major resource issues addressed in the Draft EIS include air quality, surface water hydrology and water quality, water supply and demand, protected and sensitive plant and wildlife species, archaeological and historic sites, paleontological resources, socioeconomics, recreation opportunities, and visual characteristics. A predictive model for air quality impacts prepared by Argonne National Laboratory (Argonne) was used as the basis for the reasonably foreseeable land development scenario and as the best available data for analyzing cumulative impacts of past, present, and projected development. In addition, BLM is currently working with Argonne and Clark County Department of Air Quality Management to run another model that includes potential mitigation for Ozone precursors. This model run will be ready before the Final EIS is completed.

Mark T. Morse,
Field Manager, Las Vegas.

[FR Doc. 04-17255 Filed 7-29-04; 8:45 am]

BILLING CODE 4310-HC-P